ENVIRONMENTAL PROTECTION AGENCY

[FRL-7044-5]

Proposed Settlement Under Section 122(h) of the Comprehensive Environmental Response and Liability Act

AGENCY: Environmental Protection Agency.

ACTION: Notice of proposed administrative settlement and opportunity for public comment—Ewan Property Superfund Site.

SUMMARY: The United States Environmental Protection Agency (“EPA”) is proposing to enter into an administrative settlement to resolve certain claims under the Comprehensive Environmental Response and Liability Act of 1980, as amended (“CERCLA”). Notification is being published to inform the public of the proposed settlement and of the opportunity to comment. This settlement is intended to resolve the liability of nineteen parties for certain response costs incurred by EPA at the Ewan Property Superfund Site (“the Site”) in Shamong Township, New Jersey.

DATES: Comments must be provided on or before September 27, 2001.

ADDRESSES: Comments should be addressed to the United States Environmental Protection Agency, Office of Regional Counsel, 290 Broadway—17th Floor, New York, New York 10007, and should refer to: In the Matter of the Ewan Property Superfund Site: Administrative Settlement, U.S.E.P.A. Index No. 02-2001-2007.

FOR FURTHER INFORMATION CONTACT: U.S. Environmental Protection Agency, Office of Regional Counsel, 290 Broadway—17th Floor, New York, New York 10007; Attention: Virginia A. Curry, Esq. (212) 637-3134 or curry.virginia@epa.gov.

SUPPLEMENTARY INFORMATION: In accordance with section 122(h) of CERCLA, notification is hereby given of a proposed administrative settlement with nineteen parties by which these parties, who are currently conducting the work at the Site under an administrative order, will pay future non-oversight response costs incurred by EPA at the Site. These parties paid all EPA's non-oversight costs at an earlier time. The Site is within the jurisdiction of the federal court in the Third Circuit which has ruled that parties are not liable under CERCLA for EPA oversight costs. The settlors will receive a covenant not to sue for claims related to EPA's past or future oversight costs at the Site, even if the law should change. Section 122(h) authorizes EPA to compromise claims with the approval of the Attorney General and the Attorney General has approved this settlement.

Dated: August 20, 2001.
Kathleen C. Callahan,
Acting Deputy Regional Administrator, Region 2.

[FR Doc. 01-21704 Filed 8-27-01; 8:45 am]

BILLING CODE 6560-50-U